DEPARTMENT OF THE INTERIOR

Geological Survey

Call for Nominations to the National Geospatial Advisory Committee

AGENCY: U.S. Geological Survey, Department of the Interior.

ACTION: Call for nominations.

SUMMARY: The Department of the Interior (DOI) is seeking nominations to serve on the National Geospatial Advisory Committee (NGAC). The NGAC is a Federal Advisory Committee authorized through the Geospatial Data Act of 2018 (GDA), which operates in accordance with the Federal Advisory Committee Act (FACA). The Committee provides advice and recommendations to the Secretary of the Interior through the Federal Geographic Data Committee (FGDC) related to management of Federal geospatial programs, development of the National Spatial Data Infrastructure, and the implementation of the GDA. The Committee reviews and comments on geospatial policy and management issues and provides a forum for views of non-Federal stakeholders in the geospatial community.

DATES: Nominations to participate on this Committee must be received by August 7, 2024.

ADDRESSES: Send nominations by email to ngacnominations@fgdc.gov, or by mail to Joshua Delmonico, U.S. Geological Survey, 12201 Sunrise Valley Drive, MS 590, Reston, VA 20192. Nominations may come from employers, associations, professional organizations, or other geospatial organizations. Nominations should include a resume providing an adequate description of the nominee's qualifications, including information that would enable the DOI to make an informed decision regarding meeting the membership requirements of the Committee and permit the DOI to contact a potential member. Nominees are strongly encouraged to include supporting letters from employers, associations, professional organizations, and/or other organizations that indicate support by a meaningful constituency for the nominee.

FOR FURTHER INFORMATION CONTACT: Joshua Delmonico, FGDC, USGS by phone at 703-648-5752 and by email at ngacnominations@fgdc.gov. Additional information about the NGAC and the nomination process is posted on the NGAC web page at www.fgdc.gov/ngac.

SUPPLEMENTARY INFORMATION: The Committee conducts its operations in accordance with the provisions of the GDA and the FACA. It reports to the Secretary of the Interior through the FGDC and functions solely as an advisory body. The Committee provides recommendations and advice to the DOI and the FGDC on policy and management issues related to the effective operation of Federal geospatial programs.

The NGAC includes up to 30 members, selected to generally achieve a balanced representation of the viewpoints of the various stakeholders involved in national geospatial activities. NGAC members are appointed for staggered terms, and nominations received through this call for nominations may be used to fill vacancies on the Committee that will become available in 2025 and 2026. Nominations will be reviewed by the FGDC and additional information may be requested from nominees. Final selection and appointment of Committee members will be made by the Secretary of the Interior.

The Committee meets approximately 3-4 times per year. Committee members will serve without compensation, but travel and per diem costs will be provided by the USGS. The USGS will also provide necessary support services to the Committee. Committee meetings are open to the public. Notice of committee meetings are published in the Federal Register at least 15 days before the date of the meeting. The public will have an opportunity to provide input at these meetings.

Authority: 5 U.S.C. ch. 10.

Kenneth M. Shaffer,
Deputy Executive Director, Federal Geographic Data Committee.

[FR Doc. 2024-14904 Filed 7-5-24; 8:45 am]

BILLING CODE 4338-11-P